OFFICE OF THE UNITED STATES TRADE REPRESENTATIVE

African Growth and Opportunity Act Implementation Subcommittee of the Trade Policy Staff Committee; Extension of Deadline for the Submission of Public Comments on Annual Review of Country Eligibility for Benefits Under the African Growth and Opportunity Act, Title I of the Trade and Development Act of 2000

ACTION: Extension of deadline for submission of comments.

SUMMARY: The African Growth and Opportunity Act Implementation Subcommittee of the Trade Policy Staff Committee (the “Subcommittee”) is extending the deadline for the submission of written public comments for the annual review of the eligibility of sub-Saharan African countries to receive the benefits of the African Growth and Opportunity Act (AGOA) from October 10, 2001, to November 6, 2001.

DATES: The deadline for comments is November 6, 2001.

FOR FURTHER INFORMATION CONTACT: Office of African Affairs, Office of the United States Trade Representative, 600 17th Street, NW., Room 501, Washington DC, 20508. Telephone (202) 395-9514.

SUPPLEMENTARY INFORMATION: On September 25, 2001, the Subcommittee published in the Federal Register a request for written public comments for the annual review of the eligibility of sub-Saharan African countries to receive the benefits of the AGOA (“Comments Request”). See, 66 FR 49059. According to the Comments Request, the deadline for the submission of all written comments was October 10, 2001. The Subcommittee is hereby extending that deadline until not later than November 6, 2001. Parties should refer to the Comments Request for an explanation of the AGOA, the benefits eligibility requirements, a list of current beneficiary and non-beneficiary countries, and instructions for the submission of written comments.

Carmen Suro-Bredie,
Chair, Trade Policy Staff Committee.

[FR Doc. 01-26171 Filed 10-16-01; 8:45 am]

BILLING CODE 3190-01-P